DEPARTMENT OF AGRICULTURE

Office of the Secretary

Notice of Appointment of Members to the National Agricultural Research, Extension, Education, and Economics Advisory Board

AGENCY: Research, Education, and Economics, USDA.

ACTION: Appointment of Members.

SUMMARY: In accordance with the Federal Advisory Committee Act, Pub. L. 92-463, as amended, the United States Department of Agriculture announces the appointment of 11 individuals to fill vacancies on the National Agricultural Research, Extension, Education, and Economics Advisory Board. Appointments are for a three-year term, effective October 1, 2001, until September 30, 2004, with the exception of one two-year appointment resulting from a member resignation after serving one year. Advisory Board terms beyond September 30, 2002, are contingent upon the reauthorization of the Board in accordance to Sec. 802 of Pub. L. 104-127.

FOR FURTHER INFORMATION CONTACT: Deborah Hanfman, Executive Director, National Agricultural Research, Extension, Education, and Economics Advisory Board; Research, Education, and Economics Advisory Board Office; Room 344A, Jamie L. Whitten Building; U.S. Department of Agriculture; STOP 2255; 1400 Independence Avenue, SW., Washington, DC 20250-2255; telephone: (202) 720-3684; fax: (202) 720-6199; or e-mail: smorgan@reeusda.gov.

SUPPLEMENTARY INFORMATION: Section 802 of Pub. L. 104-127, the Federal Agricultural Improvement and Reform Act of 1996, authorized the creation of the National Agricultural Research, Extension, Education, and Economics Advisory Board. The Board is composed of 30 members, each representing a specific category related to farming or ranching, food production and processing, forestry research, crop and animal science, land-grant institutions, food retailing and marketing, rural economic development, and natural resource and consumer interest groups, among many others. The Board was first appointed in September 1996, and one-third of the 30 members were appointed for a one, two, and three-year terms, respectively.

As a result of the staggered appointments, the terms for 10 of the 30 members expired September 30, 2001. In addition, one vacancy exists due to the resignation of the Category P appointee. The Secretary of Agriculture has designated appointees to fill all 11 vacancies. Appointees, by category, are as follows: Category E—National Animal Commodity Organizations, Paul C. Genho, Vice President, King Ranch, Inc., Kingsville, Texas, and Former Chair, National Cattleman's Beef Association; Category H—National Food Animal Science Societies, Jeffrey D. Armstrong, Dean, College of Agriculture and Natural Resources, Michigan State University, and President, American Society of Animal Science; Category I—National Crop, Soil, Agronomy, Horticulture or Weed Science Societies, Martin A. Massengale, President Emeritus, Foundation Distinguished Professor, and Director, Center for Grassland Studies, University of Nebraska-Lincoln (reappointed); Category N—1890 Land-Grant Colleges and Universities, including Tuskegee University, McArthur Floyd, Research Director, School of Agricultural and Environmental Sciences, Associate Director, Alabama Agricultural Experiment Station, and Professor of Soil Microbiology, Alabama A&M University; Category O—1994 Equity in Education Land-Grant Institutions, Judith Davis, Dean, Academic Affairs, Dull Knife Memorial College, Lame Deer Montana; Category P—Hispanic-Serving Institutions (2-year term), Castell Vaughn Bryant, President, Miami-Dade Community College North Campus, Miami, Florida; Category T—Food Retailing and Marketing, George H. Hoffman, President and CEO, Restaurant Services, Inc., Coral Gables, Florida; Category V—Rural Economic Development, Walter J. Armbruster, President, Farm Foundation, Oak Brook, Illinois; Category W—National Consumer Interest Groups, Barbara Stowe, Dean Emeritus, College of Human Ecology, Kansas State University, former Senior Advisor, AESOP Enterprises, Ltd., Washington, DC (reappointed); Category X—National Forestry Groups, George Samuel Foster, Jr., Dean, College of Forest Resources, Director, Forest and Wildlife Research Center, Mississippi State University; and Category Y—National Conservation or Natural Resource Groups, Peter H. Raven, Director, Missouri Botanical Garden, and National Medal of Science recipient.

Appointees' terms began on October 1, 2001, and end September 30, 2004, with the exception of the Category P term which ends on September 30, 2003.

Done at Washington, DC this 20th day of December 2001.
Joseph J. Jen,
Under Secretary, Research, Education, and Economics.

[FR Doc. 02-452 Filed 1-8-02; 8:45 am]

BILLING CODE 3410-22-P